DEPARTMENT OF COMMERCE

International Trade Administration

[A-427-602; A-428-602; A-475-601; A-588-704]

Brass Sheet and Strip From France, Germany, Italy, and Japan: Continuation of Antidumping Duty Orders

AGENCY: Enforcement and Compliance, International Trade Administration, Department of Commerce.

SUMMARY: As a result of the determination by the Department of Commerce (the Department) and the International Trade Commission (ITC) that revocation of the antidumping duty (AD) orders on brass sheet and strip from France, Germany, Italy, and Japan would likely lead to a continuation or recurrence of dumping and material injury to an industry in the United States, the Deparment is publishing a notice of continuation of the AD orders.

DATES: Applicable October 31, 2017.

FOR FURTHER INFORMATION CONTACT: Aimee Phelan, AD/CVD Operations, Office I, Enforcement and Compliance, International Trade Administration, U.S. Department of Commerce, 1401 Constitution Avenue NW., Washington, DC 20230; telephone: (202) 482-0697.

SUPPLEMENTARY INFORMATION:

Background

On March 6, 1987, the Department published in the Federal Register the AD orders on brass sheet and strip from France, Germany, and Italy.¹ On September 23, 1988, the Department amended the AD order with respect to brass sheet and strip from Germany.² Similarly, on May 21, 1991, the Department amended the AD order with respect to brass sheet and strip from Italy.³ On August 12, 1988, the Department issued an AD order on imports of brass sheet and strip from Japan.⁴

¹ See Antidumping Duty Order: Brass Sheet and Strip from France, 52 FR 6995 (March 6, 1987); Antidumping Duty Order: Brass Sheet and Strip from Italy, 52 FR 6997 (March 6, 1987); See Antidumping Duty Order; Brass Sheet and Strip from the Federal Republic of Germany, 52 FR 35750 (March 6, 1987).

² See Antidumping Duty Order; Brass Sheet and Strip from the Federal Republic of Germany, 52 FR 35750 (March 6, 1987), amended at Final Determination of Sales at Less Than Fair Value and Amendment to Antidumping Duty Order: Brass Sheet and Strip from the Federal Republic of Germany, 52 FR 35750 (September 23, 1987).

³ See Amendment to Final Determination of Sales at Less Than Fair Value and Amendment of Antidumping Duty Order in Accordance with Decision Upon Remand: Brass Sheet and Strip from Italy, 56 FR 23272 (May 21, 1991).

⁴ See Antidumping Duty Order: Brass Sheet and Strip from Japan, 53 FR 30454 (August 12, 1988).

On March 3, 2017, the Department published the notice of initiation of the fourth sunset reviews of these AD orders on brass sheet and strip ⁵ from France, Germany, Italy, and Japan pursuant to section 751(c) of the Tariff Act of 1930, as amended (the Act).

⁵ See Initiation of Five-Year (“Sunset”) Reviews, 82 FR 12438 (March 3, 2017) (Initiation).

The Department conducted these sunset reviews on an expedited basis, pursuant to section 751(c)(3)(B) of the Act and 19 CFR 351.218(e)(1)(ii)(C)(2), because it received a complete and adequate response from the domestic interested pastries, but no substantive responses from respondent interested parties. As a result of these expedited sunset reviews, the Department determined that revocation of the AD orders on brass sheet and strip from France, Germany, Italy, and Japan would likely lead to continuation or recurrence of dumping and, therefore, notified the ITC of the magnitude of the margins likely to prevail should the orders be revoked.⁶

⁶ See Brass Sheet and Strip from France, Germany, Italy, and Japan: Final Results of the Expedited Fourth Sunset Review of the Antidumping Duty Orders, 82 FR 31046 (July 5, 2017).

On October 19, 2017, pursuant to sections 751(c) and 752(a) of the Act, the ITC published a notice of its determination that revocation of the AD orders on brass sheet and strip from France, Germany, Italy, and Japan would likely lead to continuation or recurrence of material injury to an industry in the United States within a reasonably foreseeable time.⁷

⁷ See Brass Sheet and Strip from France, Germany, Italy, and Japan; Determinations, 82 FR 48724 (October 19, 2017) and ITC Publication titled Brass Sheet and Strip from France, Germany, Italy, and Japan: Investigtion Nos. 731-TA-313-314, 317 and 379 (Fourth Review) (October 2017).

Scope of the Orders

The product covered by the orders is brass sheet and strip, other than leaded and tinned brass sheet and strip, from France, Germany, Italy, and Japan. The chemical composition of the covered product is currently defined in the Copper Development Association (“C.D.A.”) 200 Series or the Unified Numbering System (“U.N.S.”) C2000. The orders do not cover products the chemical compositions of which are defined by other C.D.A. or U.N.S. series. In physical dimensions, the product covered by the orders has a solid rectangular cross section over 0.006 inches (0.15 millimeters) through 0.188 inches (4.8 millimeters) in finished thickness or gauge, regardless of width. Coiled, wound-on-reels (traverse wound), and cut-to-length products are included. The merchandise is currently classified under Harmonized Tariff Schedule of the United States (“HTSUS”) item numbers 7409.21.00 and 7409.29.00.

Although the HTSUS item numbers are provided for convenience and customs purposes, the written description of the scope of the orders remains dispositive.

Continuation of the Orders

As a result of the determinations by the Department and the ITC that revocation of the AD orders would likely lead to continuation or recurrence of dumping and material injury to an industry in the United States, pursuant to section 751(d)(2) of the Act and 19 CFR 351.218(a), the Department hereby orders the continuation of the AD orders on brass sheet and strip from France, Germany, Italy, and Japan.

U.S. Customs and Border Protection will continue to collect AD cash deposits at the rates in effect at the time of entry for all imports of subject merchandise. The effective date of continuation of these orders will be the date of publication in the Federal Register of this notice of continuation. Pursuant to section 751(c)(2) of the Act, the Department intends to initiate the next five-year review of these orders not later than 30 days prior to the fifth anniversary of the effective date of continuation.

These five-year sunset reviews and this notice are in accordance with section 751(c) of the Act and published pursuant to section 777(i)(1) of the Act, and 19 CFR 351.218(f)(4).

Dated: October 24, 2017.
Gary Taverman,
Deputy Assistant Secretary for Antidumping and Countervailing Duty Operations, performing the non-exclusive functions and duties of the Assistant Secretary for Enforcement and Compliance.

[FR Doc. 2017-23642 Filed 10-30-17; 8:45 am]

BILLING CODE 3510-DS-P